DEPARTMENT OF COMMERCE

National Oceanic and Atmospheric Administration

RIN 0648-XC38

Marine Mammals; File No. 1034-1854

AGENCY: National Marine Fisheries Service (NMFS), National Oceanic and Atmospheric Administration (NOAA), Commerce.

ACTION: Notice; receipt of application for amendment.

SUMMARY: Notice is hereby given that Markus Horning, Department of Fisheries & Wildlife, Oregon State University, Hatfield Marine Science Center, 2030 SE Marine Science Drive, Newport, OR 97365, has requested an amendment to scientific research Permit No. 1034-1854.

DATES: Written, telefaxed, or e-mail comments must be received on or before October 10, 2007

ADDRESSES: The amendment request and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1034-1854.

FOR FURTHER INFORMATION CONTACT: Amy Sloan or Tammy Adams, (301)713-2289.

SUPPLEMENTARY INFORMATION: The subject amendment to Permit No. 1034-1854, issued on September 18, 2006 (71 FR 56110) is requested under the authority of the Marine Mammal Protection Act of 1972, as amended (16 U.S.C. 1361 et seq.), and the regulations governing the taking and importing of marine mammals (50 CFR part 216).

Permit No. 1034-1854 authorizes the permit holder to conduct research on Weddell seals (Leptonychotes weddellii) to compare oxygen handling, body condition, muscle physiology, and foraging behavior in young adults and old adults. A total of 48 animals may have the following procedures performed: capture, sedation; morphometrics; ultrasound; blood and muscle samples taken; administration of Evans blue dye and deuterium oxide; external and internal data recorders deployed; release; recapture to add device to manipulate energy expenditure; and recapture to remove instruments. Up to 250 animals seals may be incidentally harassed during these activities. The permit expires on September 30, 2011.

The permit holder requests authorization to (1) increase the number of sequential blood samples from animals with Evans blue dye administered from three to five samples for accurate plasma volume determinations; (2) leave the satellite data transmitters on adult females until they fall off no later than the annual molt, rather than removing them at the end of the field season, for the purpose of recording more dives and increasing the power of age group dive behavior comparisons; and (3) opportunistically attach satellite transmitters to selected adult females older than 21 years when first encountered, for subsequent recapture, sampling, and outfitting with remaining telemetry devices. The permit holder requests pre-tagging older females because of the difficulty in encountering adult, non-pregnant and non-lactating females older than 21 years. Such tagged females could be tracked and captured to be fully included in the experiments when all sampling equipment was in place. No changes to the number of animals permitted, or handling durations during procedures, are proposed. The permit holder also proposes to collect opportunistic fecal samples and import them into the U.S. for fecal corticosterone analysis to determine individual animal stress levels.

Concurrent with the publication of this notice in the Federal Register, NMFS is forwarding copies of this application to the Marine Mammal Commission and its Committee of Scientific Advisors.

Dated: September 4, 2007.
P. Michael Payne,
Chief, Permits, Conservation and Education Division, Office of Protected Resources, National Marine Fisheries Service.

[FR Doc. E7-17776 Filed 9-7-07; 8:45 am]

BILLING CODE 3510-22-S